DEPARTMENT OF TRANSPORTATION

Pipeline and Hazardous Materials Safety Administration

[Docket No. PHMSA-2016-0136]

Pipeline Safety: Meeting of the Gas Pipeline Advisory Committee and Liquid Pipeline Advisory Committee

AGENCY: Pipeline and Hazardous Materials Safety Administration (PHMSA), DOT.

ACTION: Notice of advisory committee meeting.

SUMMARY: This notice announces a joint public meeting of the Technical Pipeline Safety Standards Committee, also known as the Gas Pipeline Advisory Committee (GPAC), and the Technical Hazardous Liquid Pipeline Safety Standards Committee, also known as the Liquid Pipeline Advisory Committee (LPAC). The GPAC and LPAC will meet jointly to discuss a variety of policy issues and topics relevant to both gas and liquid pipeline safety.

DATES: The GPAC and LPAC will meet jointly on November 14, 2019, from 8:30 a.m. to 5.00 p.m. ET. Individuals requiring accommodations, such as sign language interpretation or other ancillary aids, are asked to notify Tewabe Asebe by November 4, 2019.

ADDRESSES: The meeting will be held at the Intercontinental Washington DC—The Wharf, 801 Wharf Street SW, Washington, DC 20024. The agenda and any additional information for the meeting will be published on the following meeting page at: https://primis.phmsa.dot.gov/meetings/MtgHome.mtg?mtg=144. Presentations will be available on the meeting website and posted on the E-Gov website, https://www.regulations.gov/, under docket number PHMSA-2016-0136 within 30 days following the meeting.

The meeting will be open to the public. Members of the public will be provided an opportunity to make a statement during the meeting. The proceeding will be recorded and a record of the proceeding will be made available to the public at https://www.regulations.gov.

Written comments: Persons who wish to submit written comments on the meeting may submit them to the docket in the following ways:

E-Gov website: https://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of the DOT West Building, 1200 New Jersey Avenue SE, Washington, DC, between 9:00 a.m. and 5:00 p.m., Monday through Friday, except on Federal holidays.

Instructions: Identify the docket number PHMSA-2016-0136 at the beginning of your comments. Note that all comments received will be posted without change to https://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000, (65 FR 19477), or view the Privacy Notice at https://www.regulations.gov before submitting comments.

Docket: For docket access or to read background documents or comments, go to https://www.regulations.gov at any time or to Room W12-140 on the ground level of the DOT West Building, 1200 New Jersey Avenue SE, Washington, DC, between 9:00 a.m. and 5:00 p.m., Monday through Friday, except Federal holidays.

If you wish to receive confirmation of receipt of your written comments, please include a self-addressed, stamped postcard with the following statement: “Comments on PHMSA-2016-0136.” The docket clerk will date stamp the postcard prior to returning it to you via the US mail.

Privacy Act Statement

In accordance with 5 U.S.C. 553(c), DOT solicits comments from the public to better inform its rulemaking process. DOT posts these comments, without edit, including any personal information the commenter provides, to www.regulations.gov as described in the system of records notice (DOT/ALL-14 FDMS), which can be reviewed at www.dot.gov/privacy.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the Freedom of Information Act, and they will not be placed in the public docket of this notice. Submissions containing CBI should be sent to Tewabe Asebe at DOT, PHMSA, PHP-30, 1200 New Jersey Avenue SE, PHP-30, Washington, DC 20590-0001. Any commentary PHMSA receives that is not specifically designated as CBI will be placed in the public docket for this matter.

Services for Individuals with Disabilities: The public meetings will be physically accessible to people with disabilities. Individuals requiring accommodations, such as sign language interpretation or other ancillary aids, are asked to notify Tewabe Asebe at tewabe.asebe@dot.gov.

FOR FURTHER INFORMATION CONTACT: For information about the meeting, contact Tewabe Asebe at (202) 366-5523, or tewabe.asebe@dot.gov.

SUPPLEMENTARY INFORMATION:

I. Meeting Detail and Agenda

The committees will meet in a joint session to discuss a variety of topics to update committee members on both gas and liquid pipeline applicable safety program and policy issues, such as: Pipeline safety public awareness; reauthorization of the pipeline safety program; a regulatory agenda update; a discussion of safety management systems within the pipeline industry; an update on the Voluntary Information Sharing Working Group, and an update on pipeline safety's research and development program.

II. Committee Background

The GPAC and the LPAC are statutorily mandated advisory committees that advise PHMSA on proposed gas pipeline and hazardous liquid pipeline safety standards, respectively, and their associated risk assessments. The committees are established in accordance with the Federal Advisory Committee Act (5 U.S.C. App. 2, as amended) and 49 U.S.C. 60115. The committees consist of 15 members with membership evenly divided among federal and state governments, the regulated industry, and the general public. The committees advise PHMSA on the technical feasibility, reasonableness, cost-effectiveness, and practicability of each proposed pipeline safety standard.

Issued in Washington, DC, on October 18, 2019, under authority delegated in 49 CFR 1.97.
Alan K. Mayberry,
Associate Administrator for Pipeline Safety.

[FR Doc. 2019-23105 Filed 10-22-19; 8:45 am]

BILLING CODE 4910-60-P